DEPARTMENT OF LABOR

Employment and Training Administration

[TA-W-63,287]

Paulstra CRC Sales Office, Novi, MI; Notice of Negative Determination Regarding Application for Reconsideration

By application postmarked July 1, 2008, a petitioner requested administrative reconsideration of the Department's negative determination regarding eligibility to apply for Trade Adjustment Assistance (TAA), applicable to workers and former workers of the subject firm. The denial notice was signed on May 19, 2008 and published in the Federal Register on June 3, 2008 (73 FR 31716).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative TAA determination issued by the Department for workers of Paulstra CRC, Sales Office, Novi, Michigan was based on the finding that the worker group does not produce an article within the meaning of Section 222 of the Trade Act of 1974.

The petitioner stated that the workers of the subject firm were Customer Service Representatives and that their job duties directly supported production at Paulstra CRC. The petitioner further stated that the duties of a Customer Service Representative were to input orders, schedule delivery, customer negotiations, price negotiations, etc. and that “without these functions there would not have been any production.” The petitioner alleged that because other facilities of Paulstra CRC had been certified eligible for TAA, workers of the Sales Office who are engaged in sales and customer support services should be certified eligible for TAA.

A review of the initial investigation confirmed that the workers of the subject facility support production at Paulstra CRC, Grand Rapids, Michigan, (TA-W-61,908) during the relevant period. The above mentioned production facility was certified eligible for adjustment assistance on September 24, 2007.

However, the investigation also revealed that only one worker was separated from the Sales Office since April 2007 and there was no threat of future separations.

The subject company did not separate or threaten to separate a significant number or proportion of workers, as required by Section 222 of the Trade Act of 1974. Significant number or proportion of the workers in a firm or appropriate subdivision means at least three workers in a workforce of fewer than 50 workers, five percent of the workers in a workforce of over 50 workers, or at least 50 workers. Therefore, the subject facility did not meet the threshold of employment declines and there was no threat of separations during the relevant period.

Conclusion

After review of the application and investigative findings, I conclude that there has been no error or misinterpretation of the law or of the facts which would justify reconsideration of the Department of Labor's prior decision. Accordingly, the application is denied.

Signed in Washington, DC, this 28th day of July 2008.
Elliott S. Kushner,
Certifying Officer, Division of Trade Adjustment Assistance.

[FR Doc. E8-17886 Filed 8-4-08; 8:45 am]

BILLING CODE 4510-FN-P